DEPARTMENT OF ENERGY

Federal Energy Regulatory Commission

[Project No. 12495-001]

Cascade Creek, LLC; Notice of Draft License Application and Preliminary Draft Environmental Assessment (PDEA) and Request For Preliminary Terms and Conditions

Take notice that the following hydroelectric application has been filed with the Commission and is available for public inspection.

a. Type of Application: Major Unconstructed Project, Alternative Licensing Process.

b. Project No.: 12495-001.

c. Date Filed: February 11, 2011.

d. Applicant: Cascade Creek, LLC.

e. Name of Project: Cascade Creek Hydroelectric Project.

f. Location: On Swan Lake and Cascade Creek, approximately 15 miles northeast of Petersburg, Alaska. The project would occupy lands of the Tongass National Forest.

g. Filed Pursuant to: Federal Power Act 16 U.S.C. 791(a)-825(r).

h. Applicant Contact: Chris Spens, Licensing Manager, Cascade Creek, LLC, 3633 Alderwood Ave., Bellingham, WA 98225; (360) 738-9999, e-mail: cspens@thomasbayhydro.com.

i. FERC Contact: Dianne Rodman, at (202) 502-6077.

j. Status of Project: With this notice the Commission is soliciting (1) preliminary terms, conditions, and recommendations on the Preliminary Draft Environmental Assessment (DEA), and (2) comments on the Draft License Application.

k. Deadline for Filing: 90 days from the issuance of this notice.

All comments on the Preliminary DEA and Draft License Application should be sent to the addresses noted above in Item (h), and filed with FERC. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

All comments must include the project name and number and bear the heading Preliminary Comments, Preliminary Recommendations, Preliminary Terms and Conditions, or Preliminary Prescriptions.

l. A copy of the application is available for review at the Commission in the Public Reference Room or may be viewed on the Commission's Web site at http://www.ferc.gov using the “eLibrary” link. Enter the docket number, excluding the last three digits, in the docket number field to access the document. For assistance, contact FERC Online Support.

You may also register online at http://www.ferc.gov/docs-filing/esubscription.asp to be notified via e-mail of new filings and issuances related to this or other pending projects. For assistance, contact FERC Online Support.

Cascade Creek, LLC has provided the Preliminary DEA and Draft License Application to interested entities and parties. These documents are also available for review at the applicant's Web site (http://www.thomasbayhydro.com) and the Petersburg Public Library in Alaska.

m. With this notice, we are initiating consultation with the Alaska State Historic Preservation Officer (SHPO), as required by section 106, National Historic Preservation Act, and the regulations of the Advisory Council on Historic Preservation, 36 CFR 800.4.

Dated: February 18, 2011.
Kimberly D. Bose,
Secretary.

[FR Doc. 2011-4259 Filed 2-24-11; 8:45 am]

BILLING CODE 6717-01-P